DEPARTMENT OF ENERGY

Federal Energy Regulatory Commission

[Project No. 14216-000]

Fall River Community Hydro Project; Notice of Preliminary Permit Application Accepted for Filing and Soliciting Comments, Motions To Intervene, and Competing Applications

On June 27, 2011, Fall River Valley Community Service District, California, filed an application for a preliminary permit, pursuant to section 4(f) of the Federal Power Act (FPA), proposing to study the feasibility of the Fall River Community Hydro Project to be located on Fall River, near the town of Fall River Mills, Shasta County, California. The project affects federal lands administered by the Bureau of Land Management. The sole purpose of a preliminary permit, if issued, is to grant the permit holder priority to file a license application during the permit term. A preliminary permit does not authorize the permit holder to perform any land-disturbing activities or otherwise enter upon lands or waters owned by others without the owners' express permission.

The proposed project would consist of the following facilities: (1) An open conduit that would deliver water from the Pit 1 diversion to a penstock; (2) an existing penstock connecting the conduit to the powerhouse; (3) two pump-turbines totaling 900 kilowatts (kW) (1 × 300 kW unit and 1 × 600 kW unit) of generating capacity; and (4) an existing 3-phase power line on site. The project's annual energy output would range from 4 to 6 gigawatt hours.

Applicant Contact: Mr. John Van den Bergh, Fall River Valley Community Service District, P.O. Box 427, Fall River Mills, California 96028; phone (530) 336-5263.

FERC Contact: Carolyn Templeton; phone: (202) 502-8785.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14216-000) in the docket number field to access the document. For assistance, contact FERC Online Support.

Dated: February 15, 2012.
Kimberly D. Bose,
Secretary.

[FR Doc. 2012-4077 Filed 2-21-12; 8:45 am]

BILLING CODE 6717-01-P